DEPARTMENT OF THE TREASURY

Submission for OMB Review; Comment Request

October 2, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 8, 2007 to be assured of consideration.

Community Development Financial Institutions Fund

OMB Number: 1559-0025.

Type of Review: Reinstatement with Change.

Title: Native American CDFI Assistance (NACA) Program Application.

Description: Through the Native American CDFI Assistance Program, the CDFI Fund will provide technical assistance to CDFIs already serving Native American communities as well as technical assistance to help Native American Communities form new CDFIs.

Respondents: Not-for-profit institutions.

Estimated Total Burden Hours: 2,600 hours.

Clearance Officer: Ashanti McCallum, (202) 622-9018, Community Development Financial Institutions Fund, Department of the Treasury, 601 13th Street, NW., Suite 200 South, Washington, DC 20005.

OMB Reviewer: Alexander T. Hunt, (202) 395-7316, Office of Management and Budget, Room 10235, New Executive Office Building, Washington, DC 20503.

Robert Dahl,
Treasury PRA Clearance Officer.

[FR Doc. E7-19814 Filed 10-5-07; 8:45 am]

BILLING CODE 4810-70-P